DEPARTMENT OF ENERGY

Federal Energy Regulatory Commission

Combined Notice of Filings #1

Take notice that the Commission received the following electric corporate filings:

Docket Numbers: EC25-21-000.

Applicants: CMS Generation Michigan Power L.L.C.

Description: Application for Authorization Under Section 203 of the Federal Power Act of CMS Generation Michigan Power L.L.C.

Filed Date: 11/13/24.

Accession Number: 20241113-5146.

Comment Date: 5 p.m. ET 12/4/24.

Docket Numbers: EC25-22-000.

Applicants: Richland Township Solar II, LLC, BCD 2024 Fund 4 II Lessee, LLC.

Description: Joint Application for Authorization Under Section 203 of the Federal Power Act of Richland Township Solar II, LLC, et al.

Filed Date: 11/15/24.

Accession Number: 20241115-5278.

Comment Date: 5 p.m. ET 12/6/24.

Docket Numbers: EC25-23-000.

Applicants: Heritage Power, LLC, J. Aron & Company LLC, Barclays Capital Inc.

Description: Joint Application for Authorization Under Section 203 of the Federal Power Act of Heritage Power, LLC, et al.

Filed Date: 11/15/24.

Accession Number: 20241115-5288.

Comment Date: 5 p.m. ET 12/6/24.

Take notice that the Commission received the following exempt wholesale generator filings:

Docket Numbers: EG25-36-000.

Applicants: EdSan 1C Solar, LLC.

Description: EdSan 1C Solar, LLC submits Notice of Self-Certification of Exempt Wholesale Generator Status.

Filed Date: 11/15/24.

Accession Number: 20241115-5173.

Comment Date: 5 p.m. ET 12/6/24.

Take notice that the Commission received the following electric rate filings:

Docket Numbers: ER19-2150-005.

Applicants: Shawville Power, LLC.

Description: Compliance filing: Informational Filing Regarding Upstream Transfer of Ownership to be effective N/A.

Filed Date: 11/15/24.

Accession Number: 20241115-5197.

Comment Date: 5 p.m. ET 12/6/24.

Docket Numbers: ER19-2151-005.

Applicants: New Castle Power, LLC.

Description: Compliance filing: Informational Filing Regarding Upstream Transfer of Ownership to be effective N/A.

Filed Date: 11/15/24.

Accession Number: 20241115-5181.

Comment Date: 5 p.m. ET 12/6/24.

Docket Numbers: ER19-2152-005.

Applicants: Brunot Island Power, LLC.

Description: Compliance filing: Informational Filing Regarding Upstream Transfer of Ownership to be effective N/A.

Filed Date: 11/15/24.

Accession Number: 20241115-5171.

Comment Date: 5 p.m. ET 12/6/24.

Docket Numbers: ER19-2153-005.

Applicants: Gilbert Power, LLC.

Description: Compliance filing: Informational Filing Regarding Upstream Transfer of Ownership to be effective N/A.

Filed Date: 11/15/24.

Accession Number: 20241115-5172.

Comment Date: 5 p.m. ET 12/6/24.

Docket Numbers: ER19-2154-006.

Applicants: Sayreville Power, LLC.

Description: Compliance filing: Informational Filing Regarding Upstream Transfer of Ownership to be effective N/A.

Filed Date: 11/15/24.

Accession Number: 20241115-5189.

Comment Date: 5 p.m. ET 12/6/24.

Docket Numbers: ER19-2155-005.

Applicants: Portland Power, LLC.

Description: Compliance filing: Informational Filing Regarding Upstream Transfer of Ownership to be effective N/A.

Filed Date: 11/15/24.

Accession Number: 20241115-5186.

Comment Date: 5 p.m. ET 12/6/24.

Docket Numbers: ER19-2156-005.

Applicants: Warren Generation, LLC.

Description: Compliance filing: Informational Filing Regarding Upstream Transfer of Ownership to be effective N/A.

Filed Date: 11/15/24.

Accession Number: 20241115-5205.

Comment Date: 5 p.m. ET 12/6/24.

Docket Numbers: ER19-2157-005.

Applicants: Mountain Power, LLC.

Description: Compliance filing: Informational Filing Regarding Upstream Transfer of Ownership to be effective N/A.

Filed Date: 11/15/24.

Accession Number: 20241115-5180.

Comment Date: 5 p.m. ET 12/6/24.

Docket Numbers: ER19-2158-005.

Applicants: Orrtanna Power, LLC.

Description: Compliance filing: Informational Filing Regarding Upstream Transfer of Ownership to be effective N/A.

Filed Date: 11/15/24.

Accession Number: 20241115-5184.

Comment Date: 5 p.m. ET 12/6/24.

Docket Numbers: ER19-2159-005.

Applicants: Shawnee Power, LLC.

Description: Compliance filing: Informational Filing Regarding Upstream Transfer of Ownership to be effective N/A.

Filed Date: 11/15/24.

Accession Number: 20241115-5193.

Comment Date: 5 p.m. ET 12/6/24.

Docket Numbers: ER19-2160-005.

Applicants: Titus Power, LLC.

Description: Compliance filing: Informational Filing Regarding Upstream Transfer of Ownership to be effective N/A.

Filed Date: 11/15/24.

Accession Number: 20241115-5199.

Comment Date: 5 p.m. ET 12/6/24.

Docket Numbers: ER19-2161-005.

Applicants: Hamilton Power, LLC.

Description: Compliance filing: Informational Filing Regarding Upstream Transfer of Ownership to be effective N/A.

Filed Date: 11/15/24.

Accession Number: 20241115-5174.

Comment Date: 5 p.m. ET 12/6/24.

Docket Numbers: ER19-2162-005.

Applicants: Blossburg Power, LLC.

Description: Compliance filing: Informational Filing Regarding Upstream Transfer of Ownership to be effective N/A.

Filed Date: 11/15/24.

Accession Number: 20241115-5169.

Comment Date: 5 p.m. ET 12/6/24.

Docket Numbers: ER19-2163-005.

Applicants: Hunterstown Power, LLC.

Description: Compliance filing: Informational Filing Regarding Upstream Transfer of Ownership to be effective N/A.

Filed Date: 11/15/24.

Accession Number: 20241115-5177.

Comment Date: 5 p.m. ET 12/6/24.

Docket Numbers: ER19-2164-006.

Applicants: Tolna Power, LLC.

Description: Compliance filing: Informational Filing Regarding Upstream Transfer of Ownership to be effective N/A.

Filed Date: 11/15/24.

Accession Number: 20241115-5204.

Comment Date: 5 p.m. ET 12/6/24.

Docket Numbers: ER24-2023-001.

Applicants: Black Hills Colorado Electric, LLC.

Description: Compliance filing: Order Nos. 2023 and 2023-A Further Compliance Filing to be effective 9/1/2024.

Filed Date: 11/18/24.

Accession Number: 20241118-5140.

Comment Date: 5 p.m. ET 12/9/24.

Docket Numbers: ER24-2027-001.

Applicants: Golden Spread Electric Cooperative, Inc.

Description: Compliance filing: OATT Order No. 2023 Second Compliance to be effective 5/17/2024.

Filed Date: 11/18/24.

Accession Number: 20241118-5125.

Comment Date: 5 p.m. ET 12/9/24.

Docket Numbers: ER24-3089-001.

Applicants: PJM Interconnection, L.L.C.

Description: Tariff Amendment: Amendment of ER24-3089-000; Original WMPA No. 7373; AG1-558 to be effective 8/23/2024.

Filed Date: 11/18/24.

Accession Number: 20241118-5174.

Comment Date: 5 p.m. ET 12/9/24.

Docket Numbers: ER24-3130-000; ER24-3131-000; ER24-3132-000.

Applicants: West River Solar, LLC, Two Hearted Solar, LLC, Apex Solar, LLC.

Description: Supplement to 09/27/2024, Apex Solar, LLC, et al. tariff filing.

Filed Date: 11/15/24.

Accession Number: 20241115-5268.

Comment Date: 5 p.m. ET 12/6/24.

Docket Numbers: ER25-458-000.

Applicants: PJM Interconnection, L.L.C.

Description: Notice of Cancellation of ISA, SA No. 1134 entered into by and among PJM, Calpine Parlin, LLC, and Jersey Central Power & Light Company, accepted by the Commission.

Filed Date: 11/14/24.

Accession Number: 20241114-5304.

Comment Date: 5 p.m. ET 12/5/24.

Docket Numbers: ER25-459-000.

Applicants: PJM Interconnection, L.L.C.

Description: § 205(d) Rate Filing: Amendment to ISA, Service Agreement No. 4322; Queue No. Z1-036 to be effective 1/18/2025.

Filed Date: 11/18/24.

Accession Number: 20241118-5128.

Comment Date: 5 p.m. ET 12/9/24.

Docket Numbers: ER25-461-000.

Applicants: Midcontinent Independent System Operator, Inc., Duke Energy Business Services LLC.

Description: § 205(d) Rate Filing: Midcontinent Independent System Operator, Inc. submits tariff filing per 35.13(a)(2)(iii: 2024-11-18_SA 4389 DEI-Deriva Energy Solar E&P (J1721) to be effective 11/19/2024.

Filed Date: 11/18/24.

Accession Number: 20241118-5136.

Comment Date: 5 p.m. ET 12/9/24.

Docket Numbers: ER25-462-000.

Applicants: PJM Interconnection, L.L.C.

Description: § 205(d) Rate Filing: Original GIA & CSA, SA Nos. 7400 & 7401; Project Identifier AF1-164 to be effective 10/17/2024.

Filed Date: 11/18/24.

Accession Number: 20241118-5138.

Comment Date: 5 p.m. ET 12/9/24.

Docket Numbers: ER25-463-000.

Applicants: Alabama Power Company, Georgia Power Company, Mississippi Power Company.

Description: § 205(d) Rate Filing: Alabama Power Company submits tariff filing per 35.13(a)(2)(iii: Zinnia Energy Center LGIA Filing to be effective 11/6/2024.

Filed Date: 11/18/24.

Accession Number: 20241118-5143.

Comment Date: 5 p.m. ET 12/9/24.

Docket Numbers: ER25-464-000.

Applicants: Southwest Power Pool, Inc.

Description: § 205(d) Rate Filing: Submission of Tariff Revisions to the NRIS Interconnection Service Product to be effective 2/1/2025.

Filed Date: 11/18/24.

Accession Number: 20241118-5144.

Comment Date: 5 p.m. ET 12/9/24.

Docket Numbers: ER25-465-000.

Applicants: Tri-State Generation and Transmission Association, Inc.

Description: § 205(d) Rate Filing: Initial Filing of Service Agreement FERC No. 925 to be effective 11/6/2024.

Filed Date: 11/18/24.

Accession Number: 20241118-5147.

Comment Date: 5 p.m. ET 12/9/24.

Docket Numbers: ER25-466-000.

Applicants: Phoenix Energy Group, LLC.

Description: § 205(d) Rate Filing: MBR Amendment to be effective 1/17/2025.

Filed Date: 11/18/24.

Accession Number: 20241118-5148.

Comment Date: 5 p.m. ET 12/9/24.

Docket Numbers: ER25-467-000.

Applicants: CMS Energy Resource Management Company.

Description: § 205(d) Rate Filing: Market-Based Rate Tariff Update to be effective 1/17/2025.

Filed Date: 11/18/24.

Accession Number: 20241118-5150.

Comment Date: 5 p.m. ET 12/9/24.

Docket Numbers: ER25-468-000.

Applicants: Craven County Wood Energy Limited Partnership.

Description: § 205(d) Rate Filing: Market-Based Rate Tariff Update to be effective 1/17/2025.

Filed Date: 11/18/24.

Accession Number: 20241118-5153.

Comment Date: 5 p.m. ET 12/9/24.

Docket Numbers: ER25-469-000.

Applicants: Dearborn Industrial Generation, L.L.C.

Description: § 205(d) Rate Filing: Market-Based Rate Tariff Update to be effective 1/17/2025.

Filed Date: 11/18/24.

Accession Number: 20241118-5154.

Comment Date: 5 p.m. ET 12/9/24.

Docket Numbers: ER25-470-000.

Applicants: Genesee Power Station Limited Partnership.

Description: § 205(d) Rate Filing: Market-Based Rate Tariff Update to be effective 1/17/2025.

Filed Date: 11/18/24.

Accession Number: 20241118-5158.

Comment Date: 5 p.m. ET 12/9/24.

Docket Numbers: ER25-471-000.

Applicants: Grayling Generating Station Limited Partnership.

Description: § 205(d) Rate Filing: Market-Based Rate Tariff Update to be effective 1/17/2025.

Filed Date: 11/18/24.

Accession Number: 20241118-5161.

Comment Date: 5 p.m. ET 12/9/24.

Docket Numbers: ER25-472-000.

Applicants: XTS LLC.

Description: Baseline eTariff Filing: Petition for Initial Market-Based Rate Auth. w/Waivers & Expedited Treatment to be effective 1/1/2025.

Filed Date: 11/18/24.

Accession Number: 20241118-5163.

Comment Date: 5 p.m. ET 12/9/24.

Docket Numbers: ER25-473-000.

Applicants: Newport Solar LLC.

Description: § 205(d) Rate Filing: Market-Based Rate Tariff Update to be effective 1/17/2025.

Filed Date: 11/18/24.

Accession Number: 20241118-5165.

Comment Date: 5 p.m. ET 12/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

November 18, 2024.
Carlos D. Clay,
Acting Deputy Secretary.

[FR Doc. 2024-27451 Filed 11-21-24; 8:45 am]

BILLING CODE 6717-01-P